DEPARTMENT OF COMMERCE

National Oceanic and Atmospheric Administration

[I.D. 031507B]

Draft Programmatic Environmental Impact Statement; Seismic Surveys in the Beaufort and Chukchi Seas, Alaska

AGENCY: National Marine Fisheries Service (NMFS), National Oceanic and Atmospheric Administration (NOAA), Commerce.

ACTION: Notice of extension of comment period.

SUMMARY: On April 6, 2007, notice was published in the Federal Register that NMFS and the Minerals Management Service had released for public comment a Draft Programmatic Environmental Impact Statement (Draft PEIS) for Seismic Surveys in the Beaufort and Chukchi Seas, Alaska. Also, the times, dates, and locations for public hearings in order to receive comments from the public on the Draft PEIS were provided. Based on verbal requests during the public hearings and two written requests, the comment period on this document has been extended.

DATES: Written comments must be postmarked by June 29, 2007.

ADDRESSES: Written comments on the Draft PEIS should be addressed to Mr. P. Michael Payne, Chief of the Permits, Conservation and Education Division, Office of Protected Resources, National Marine Fisheries Service, 1315 East-West Highway, Silver Spring, MD 20910-3225. The mailbox address for providing email comments is PR1.ALASKAEIS@noaa.gov. Comments sent via e-mail, including all attachments, must not exceed a 10-megabyte file size.

A copy of the Draft PEIS may be obtained by writing to this address or by telephoning the contact listed here and is also available at: http://www.mms.gov/alaska/.

FOR FURTHER INFORMATION CONTACT: Kenneth R. Hollingshead, (301)713-2289, ext 128.

SUPPLEMENTARY INFORMATION: Additional information on the content of the Draft PEIS can be found in the notice of availability (72 FR 17117, April 6, 2007).

Dated: May 8, 2007.
Wanda L. Cain,
Acting Director, Office of Protected Resources, National Marine Fisheries Service.

[FR Doc. E7-9093 Filed 5-10-07; 8:45 am]

BILLING CODE 3510-22-S